NATIONAL FOUNDATION FOR THE ARTS AND HUMANITIES

Proposed Collection, Comment Request, Learning Opportunities Grant Application Form

AGENCY: Institute of Museum and Library Services, NFAH.

ACTION: Notice.

SUMMARY: The Institute of Museum and Library Services as part of its continuing effort to reduce paperwork and respondent burden, conducts a preclearance consultation program to provide the general public and federal agencies with an opportunity to comment on proposed and/or continuing collectinos of information in accordance with the Paperwork Reduction Act of 1995 (PRA95) [44 U.S.C. 3508(2)(A)] This program helps to ensure that requested data can be provided in the desired format, reporting burden (time and financial resources) is minimized, collection instruments are clearly understood, and the impact of collection requirements on respondents can be properly assessed. Currently the Institute of Museum and Library Services is soliciting comments concerning the proposed study of the needs assessment of end-users in library and museum digitization projects funded through the Institute of Museum and Library Services.

A copy of the proposed inforamtion collection request can be obtained by contacting the individual listed below in the addressee section of this notice.

DATES: Written comments must be submitted to the office listed in the addressee section below on or before May 14, 2002.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g., permitting electronic submissions of responses.

ADDRESSES: Send comments to Mary Estelle Kennelly, Director Office of Museum Programs, Institute of Museum and Library Services, 1100 Pennsylvania Ave., NW., Room 610, Washington, DC 20506. Fax: 202-606-0010 or by e-mail mkennely@imls.gov Fax or e-mail preferred.

SUPPLEMENTARY INFORMATION:

I. Background

The Institute of Museum and Library Services is an independent Federal grant-making agency authorized by the Museum and Library Services Act, Pub. L. 104-208. The IMLS provides a variety of grant programs to assist the nation's museums and libraries in improving their operations and enhancing their services to the public. Museums and libraries of all sizes and types may receive support from IMLS programs. Learning Opportunities Grants will be a one year transitional program as IMLS refines and refocuses its current General Operating Support grant program to better meet the changing needs of the public.

Agency: Institute of Museum and Library Services.

Title: Learning Opportunities Grant Application

OMB Number: n/a.

Agency Number: 3137.

Frequency: One time.

Affected Public: Museums.

Number of Respondents: 500.

Estimated Time Per Respondent: 9 hours.

Total Burden Hours: 4500 hours.

Total Annualized capital/startup costs: 0.

Total Annual costs: 0.

FOR FURTHER INFORMATION CONTACT: Mamie Bittner, Director Office of Public and Legislative Affairs, Institute of Museum and Library Services, 1100 Pennsylvania Avenue, NW., Washington, DC 20506. E-mail mbittner@imls.gov fax (202) 606-8591. E-mail of fax preferred.

Dated: March 12, 2002.
Mamie Bittner,
Director of Public and Legislative Affairs.

[FR Doc. 02-6237 Filed 3-14-02; 8:45 am]

BILLING CODE 4910-13-M